DEPARTMENT OF TRANSPORTATION

Coast Guard

[USCG 2000-7693]

Guidelines for Assessing Merchant Mariners Through Demonstrations of Proficiency as Officers in Charge of Navigational Watches on Ships of 500 Gross Tonnage or More as Measured Under the International Tonnage Convention (ITC)

AGENCY: Coast Guard, DOT.

ACTION: Notice of availability and request for comments.

SUMMARY: The Coast Guard announces the availability of, and seeks public comments on, the national performance measures proposed here for use as guidelines when mariners demonstrate their proficiency as Officers in Charge of Navigational Watches on ships of 500 gross tonnage ITC or more. A working group of the Merchant Marine Personnel Advisory Committee (MERPAC) developed and recommended national performance measures for this proficiency. The Coast Guard has adapted the measures recommended by MERPAC.

DATES: Comments and related material must reach the Docket Management Facility on or before October 23, 2000.

ADDRESSES: Please identify your comments and related material by the docket number of this rulemaking [USCG 2000-7693]. Then, to make sure they enter the docket just once, submit them by just one of the following means:

(1) By mail to the Docket Management Facility, U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this Notice. Comments and related material received from the public, as well as documents mentioned in this Notice, will become part of this docket and will be available for inspection or copying at room PL-401 on the Plaza level of the Nassif Building, 400 Seventh Street SW., Washington, DC, between 9 a.m. and 5 p.m., Monday through Friday, except Federal holidays. You may also find this docket on the Internet at http://dms.dot.gov.

The measures proposed here are also available from Mr. Mark Gould or Mr. Gerald Miante, Maritime Personnel Qualifications Division, Office of Operating and Environmental Standards, Commandant (G-MSO-1), U.S. Coast Guard Headquarters, telephone 202-267-0229.

FOR FURTHER INFORMATION CONTACT: For questions on this Notice or on the national performance measures proposed here, write or call Mr. Gould or Mr. Miante where indicated under ADDRESSES. For questions on viewing or submitting material to the docket, call Ms. Dorothy Beard, Chief, Dockets, Department of Transportation, telephone 202-366-9329.

SUPPLEMENTARY INFORMATION:

What Action is the Coast Guard Taking?

Table A-II/1 of the Code accompanying the International Convention on Standards of Training, Certification and Watchkeeping for Seafarers (STCW), 1978, as amended in 1995, articulates qualifications for ensuring merchant mariners' attaining the minimum standard of competence through demonstrations of their proficiency as Officers in Charge of Navigational Watches on ships of 500 gross tonnage ITC or more. The Coast Guard tasked MERPAC with referring to the Table, modifying and specifying it as it deemed necessary, and recommending national performance measures. The Coast Guard has adapted the measures recommended by MERPAC and is proposing them here for use as guidelines for assessing that proficiency. Next we set forth the Five Skills by which a mariner must demonstrate that proficiency and we give an example of a Performance Condition, a Performance Behavior, and three Performance Standards for one of the skills.

Five Skills: Plan and conduct a passage and determine position; Maintain a safe navigational watch; Use radar and ARPA to maintain the safety of navigation; Transmit and receive information by visual signaling; and Maneuver the ship.

The Performance Condition for the skill entitled, “Plan and conduct a passage and determine position” is: On a ship or in a navigational laboratory, given notices to mariners and uncorrected charts and publications.

The Performance Behavior for the same skill is: The candidate will correct five charts and three publications, including the Light List or the List of Lights.

The Performance Standards for the same skill are: Charts and publications needing correction are identified; Corrections are correctly made to the affected charts and publications; and All corrections to charts are recorded on the chart, and in the chart-correction record or on the chart-correction spreadsheet, and all corrections to publications are recorded on the correction page of the publication and on either the publication-correction card or the publication-correction spreadsheet.

If the mariner properly meets all of the Performance Standards, he or she passes the practical demonstration. If he or she fails to properly carry out any of the Performance Standards, he or she fails it.

Why Is the Coast Guard Taking This Action?

The Coast Guard is taking this action to comply with STCW, as amended in 1995 and incorporated into domestic law at 46 CFR Parts 10, 12, and 15 in 1997. Guidance from the International Maritime Organization on shipboard assessments of proficiency suggests that Parties develop standards and measures of performance for practical tests as part of their programs for training and assessing seafarers.

How May I Participate in This Action?

You may participate in this action by submitting comments and related material on the national performance measures proposed here. (Although the Coast Guard does not seek public comment on the measures recommended by MERPAC, as distinct from the measures proposed here, those measures are available on the Internet at the Homepage of MERPAC, http://www.uscg.mil/hq/g-m/advisory/merpac/merpac.htm.) These measures are available on the Internet at http://dms.dot.gov. They are also available from Mr. Gould or Mr. Miante where indicated under ADDRESSES. If you submit written comments please include—

• Your name and address;

• The docket number for this Notice [USCG 2000-7693];

• The specific section of the performance measures to which each comment applies; and

• The reason for each comment.

You may mail, deliver, fax, or electronically submit your comments and related material to the Docket Management Facility, using an address or fax number listed in ADDRESSES. Please do not submit the same comment or material more than once. If you mail or deliver your comments and material, they must be on 8½-by-11-inch paper, and the quality of the copy should be clear enough for copying and scanning. If you mail your comments and material and would like to know whether the Docket Management Facility received them, please enclose a stamped, self-addressed postcard or envelope. The Coast Guard will consider all comments and material received during the 60-day comment period.

Once we have considered all comments and related material, we will publish a final version of the national performance measures for use as guidelines by the general public. Individuals and institutions assessing the competence of mariners may refine the final version of these measures and develop innovative alternatives. If you vary from the final version of these measures, however, you must submit your alternative to the National Maritime Center for approval by the Coast Guard under 46 CFR 10.303(e) before you use it as part of an approved course or training program.

Dated: July 27, 2000.
Joseph J. Angelo,
Director of Standards, Marine Safety and Environmental Protection.

[FR Doc. 00-21259 Filed 8-21-00; 8:45 am]

BILLING CODE 4910-15-U